DEPARTMENT OF DEFENSE

Office of the Secretary

Defense Policy Board: Notice of Federal Advisory Committee Meeting

AGENCY: Under Secretary of Defense for Policy, Department of Defense (DoD).

ACTION: Notice of Federal Advisory Committee meeting.

SUMMARY: The DoD is publishing this notice to announce the following Federal Advisory Committee meeting of the Defense Policy Board (DPB) will take place.

DATES: Closed to the public; Tuesday, June 13, 2023, from 8:30 a.m. to 5 p.m.

Closed to the public; Wednesday, June 14, 2023, from 8:30 a.m. to 5 p.m.

ADDRESSES: The closed meetings will be held in the Rodman Conference Room, 3D852, at The Pentagon, 2000 Defense Pentagon, Washington, DC 20301-2000.

FOR FURTHER INFORMATION CONTACT: Lt Col Jesse Humpal (U.S. Air Force), (571) 256-8395 (Voice), osd.pentagon.rsrcmgmt.list.ousd-policy-defense-board-mbx@mail.mil (Email). Mailing address is 2000 Defense Pentagon, Attn: 5E420, Washington, DC 20301-2000.

SUPPLEMENTARY INFORMATION: This meeting is being held under the provisions of Federal Advisory Committee Act (FACA) (5 U.S.C. App), the Government in the Sunshine Act (“the Sunshine Act”) (5 U.S.C. 552b), sections 102-3.140 and 102-3.150 of title 41, Code of Federal Regulations (CFR).

Due to circumstances beyond the control of the Designated Federal Officer, the Defense Policy Board was unable to provide public notification required by 41 CFR 102-3.150(a) concerning its June 13-14, 2023 meeting. Accordingly, the Advisory Committee Management Officer for the Department of Defense, pursuant to 41 CFR 102-3.150(b), waives the 15-calendar day notification requirement.

Purpose of the Meeting: To obtain, review, and evaluate classified information related to the DPB's mission to advise on (a) issues central to strategic DoD planning; (b) policy implications of U.S. force structure and modernization on DoD's ability to execute U.S. defense strategy; (c) U.S. regional defense policies; and (d) other defense policy topics of special interest to the DoD, as determined by the Secretary of Defense, the Deputy Secretary of Defense, or the Under Secretary of Defense for Policy.

Agenda: On June 13, 2023, and June 14, 2023, the DPB will receive classified briefings and hold classified discussions on the long-term regional and global strategic implications of potential coercion by the People's Republic of China (PRC) across the Taiwan Strait, including implications for U.S. allies and partners in the Indo-Pacific and around the world. The DPB will: (1) conduct classified deliberations as a Board regarding the Information Operations terms of reference discussed at the December 13-14, 2022, and the March 7-8, 2023, meetings; (2) receive classified briefings on reactions by the Chinese Communist Party (CCP) and China's People's Liberation Army (PLA) from the National Intelligence Officer for East Asia, National Intelligence Council, and Dr. Dale Rielage, Senior Director for Strategic Competition, OSD Red Team, Office of the Under Secretary of Defense for Intelligence & Security; (3) deliberate as a Board on classified CCP and PLA scenarios; (4) receive a classified briefing regarding reactions by Central & South American partners to these scenarios from GEN Laura Richardson (U.S. Army), Commander, U.S. Southern Command; (5) receive a classified briefing regarding reactions by South Korea, Japan, and Australia from the National Intelligence Officer for Near East, National Intelligence Council, and Honorable Ely Ratner, Assistant Secretary of Defense for Indo-Pacific Security Affairs; (6) receive a classified briefing regarding reactions by India, Vietnam, the Philippines, and Indonesia, from the National Intelligence Officer for South Asia, National Intelligence Council, and Hon. Ely Ratner, Assistant Secretary of Defense for Indo-Pacific Security Affairs; (7) receive a classified briefing regarding reactions by NATO Allies from AMB Julie Smith, U.S. Ambassador to NATO, and Ms. Rachel Ellehuss, U.S. NATO Defense Advisor; (8) conduct classified deliberations as a Board regarding the Taiwan topic terms of reference; (9) receive a classified briefing regarding reactions by African Partners from Gen Michael Langley (USMC), Commander, U.S. Africa Command; (10) receive a classified briefing regarding reactions by Russia and Iran from the National Intelligence Officer for Russia & Eurasia, National Intelligence Council; (11) receive a classified briefing regarding reactions by North Korea from the National Intelligence Officer for North Korea, National Intelligence Council; (12) discuss these briefings in a classified session with the Deputy Secretary of Defense and the Under Secretary of Defense; and (13) finally conduct a final classified deliberation as a Board regarding the Taiwan topic terms of reference.

Meeting Accessibility: In accordance with 5 U.S.C. 1009(d) and 41 CFR 102-3.155, the DoD has determined that this meeting shall be closed to the public. The Under Secretary of Defense (Policy), in consultation with the DoD FACA Attorney, has determined in writing that this meeting be closed to the public because the discussions fall under the purview of 5 U.S.C. 552b(c)(1) of title and are so inextricably intertwined with unclassified material that they cannot reasonably be segregated into separate discussions without disclosing classified material.

Written Statements: In accordance with 5 U.S.C. 1009(a)(3) and 41 CFR 102-3.105(j) and 102-3.140(c), the public or interested organizations may submit written statements to the membership of the DPB at any time regarding its mission or in response to the stated agenda of a planned meeting. Written statements should be submitted to the DPB's DFO, which is listed above in this notice or can be obtained from the GSA's FACA Database— https://www.facadatabase.gov/. Written statements that do not pertain to a scheduled meeting of the DPB may be submitted at any time. However, if individual comments pertain to a specific topic being discussed at a planned meeting, then these statements must be submitted no later than five business days prior to the meeting in question. The DFO will review all submitted written statements and provide copies to all members.

Dated: June 2, 2023.
Aaron T. Siegel,
Alternate OSD Federal Register Liaison Officer, Department of Defense.

[FR Doc. 2023-12202 Filed 6-6-23; 8:45 am]

BILLING CODE 5001-06-P